DEPARTMENT OF COMMERCE

National Oceanic and Atmospheric Administration

50 CFR Part 679

[Docket No. 021212307-2307-01; I.D. 110602C]

Fisheries of the Exclusive Economic Zone Off Alaska; Bering Sea and Aleutian Islands Area; Interim 2003 Harvest Specifications for Groundfish

AGENCY: National Marine Fisheries Service (NMFS), National Oceanic and Atmospheric Administration (NOAA), Commerce.

ACTION: Interim final rule.

SUMMARY: NMFS issues interim 2003 total allowable catch (TAC) amounts for each category of groundfish, Community Development Quota (CDQ) reserve amounts, American Fisheries Act (AFA) pollock allocations and sideboard amounts, and prohibited species catch (PSC) allowances and prohibited species quota (PSQ) reserves for the groundfish fishery of the Bering Sea and Aleutian Islands management area (BSAI). Without interim specifications in effect on January 1, the groundfish fisheries would not be able to open on that date, which would result in unnecessary closures and disruption within the fishing industry. The intended effect is to conserve and manage the groundfish resources in the BSAI.

EFFECTIVE DATE: The Interim Specifications are effective from 0001 hours, Alaska local time (A.l.t.), January 1, 2003, until the effective date of the Final 2003 Harvest Specifications for BSAI Groundfish, which will be published in the Federal Register.

ADDRESSES: Copies of the Environmental Assessment (EA) prepared for this action, the final 2001 Stock Assessment and Fishery Evaluation (SAFE) report, dated November 2001, and the final 2002 SAFE report, dated November 2002, are available from the North Pacific Fishery Management Council, West 4th Avenue, Suite 306, Anchorage, AK 99510-2252 (907-271-2809).

FOR FURTHER INFORMATION CONTACT: Mary Furuness, 907-586-7228, or email mary.furuness@noaa.gov.

SUPPLEMENTARY INFORMATION:

Background

Federal regulations at 50 CFR part 679 implementing the Fishery Management Plan for the Groundfish Fishery of the Bering Sea and Aleutian Islands Area (FMP) govern the groundfish fisheries in the BSAI. The North Pacific Fishery Management Council (Council) prepared the FMP, and NMFS approved it under the Magnuson-Stevens Fishery Conservation and Management Act. General regulations that also pertain to the U.S. fisheries appear at subpart H of 50 CFR part 600.

The Council met in October 2002 to review scientific information concerning groundfish stocks and recommended proposed 2003 specifications which are available for public review (see ADDRESSES). The Council recommended a proposed total ABC of 3,176,100 mt and a proposed total TAC of 1,998,540 mt for the 2003 fishing year. The proposed TAC amounts for each species were based on the best available biological and socioeconomic information.

Under § 679.20(c)(1), NMFS published in the Federal Register proposed harvest specifications for groundfish and associated management measures in the BSAI for the 2003 fishing year (67 FR 76362, December 12, 2002). That document contains a detailed discussion of the proposed 2003 TACs, initial TACs (ITACs) and related apportionments, CDQ reserves, ABC amounts, overfishing levels, PSC allowances, PSQ reserve amounts, and associated management measures of the BSAI groundfish fishery.

This action provides interim harvest specifications and apportionments thereof for the 2003 fishing year that will become available on January 1, 2003, and remain in effect until superseded by the final 2003 harvest specifications. Background information concerning the 2003 groundfish harvest specification process upon which this interim action is based is provided in the above mentioned proposed specification document.

Establishment of Interim TACs

Regulations at § 679.20(b)(1)(i) require that 15 percent of the TAC for each target species or species group, except for pollock and the hook-and-line and pot gear allocation of sablefish, be placed in a non-specified reserve. The AFA supersedes this provision for pollock by requiring that the TAC for this species be fully allocated among the CDQ program, incidental catch allowance (ICA), and inshore, catcher/processor, and mothership directed fishery allowances.

Regulations at § 679.20(b)(1)(iii) require that one-half of each TAC amount placed in the non-specified reserve, with the exception of squid, be allocated to the groundfish CDQ reserve and that 20 percent of the hook-and-line and pot gear allocation of sablefish be allocated to the fixed gear sablefish CDQ reserve. Section 206(a) of the AFA requires that 10 percent of the pollock TAC be allocated to the pollock CDQ reserve. With the exception of the hook-and-line and pot gear sablefish CDQ reserve, the CDQ reserves are not further apportioned by gear. Regulations at § 679.21(e)(1)(i) also require that 7.5 percent of each PSC limit, with the exception of herring, be withheld as a PSQ reserve for the CDQ fisheries. Regulations governing the management of the CDQ and PSQ reserves are set forth at §§ 679.30 and 679.31.

Regulations at § 679.20(c)(2) provide that interim specifications become effective at 0001 hours, A.l.t., January 1, and remain in effect until superseded by the final groundfish harvest specifications. The regulations that will be effective with the final rule to implement the Steller sea lion protection measures further provide that the interim specifications will be established as one-fourth of each proposed ITAC amount and apportionment thereof (not including the first seasonal allowance of pollock, Pacific cod and Atka mackerel), one-fourth of each proposed PSQ reserve and PSC allowance established under § 679.21, and the first proposed seasonal allowance of pollock, Pacific cod and Atka mackerel TAC. As stated in the proposed specifications publication (67 FR 76362, December 12, 2002), no harvest of groundfish is authorized prior to the effective date of this action implementing the interim specifications.

Interim 2003 BSAI Groundfish Harvest Specifications

Table 1 provides interim TAC and CDQ amounts and apportionments thereof. Regulations at § 679.20(c)(2)(ii) do not provide for an interim specification for the non-trawl sablefish CDQ reserve or for sablefish managed under the Individual Fishing Quota program. As a result, fishing for the non-trawl allocation of CDQ sablefish and sablefish harvested with fixed gear is prohibited until the effective date of the Final 2003 Groundfish Specifications.

BILLING CODE 3510-22-S

BILLING CODE 3510-22-C

Interim Allocation of PSC Limits for Crab, Halibut, and Herring

Under § 679.21(e), annual PSC limits are specified for red king crab, Chionoecetes bairdi Tanner crab, and C. opilio crab in applicable Bycatch Limitation Zones (see § 679.2) of the Bering Sea subarea, and for Pacific halibut and Pacific herring throughout the BSAI. Regulations under § 679.21(e) authorize the apportionment of each PSC limit into PSC allowances for specified fishery categories. Under § 679.21(e)(1)(i), 7.5 percent of each PSC limit specified for halibut, crab, and salmon is reserved as a PSQ reserve for use by the groundfish CDQ program.

Regulations at § 679.20(c)(2)(ii) provide that one-fourth of each proposed PSQ reserve and PSC allowance be made available on an interim basis for harvest at the beginning of the fishing year, until superseded by the final harvest specifications. The PSQ reserves and fishery specific interim PSC allowances for halibut and crab are specified in Table 2 and are in effect at 0001 hours, A.l.t., January 1, 2003.

TABLE 2. INTERIM 2003 PROHIBITED SPECIES BYCATCH ALLOWANCES FOR THE BSAI TRAWL AND NON-TRAWL FISHERIES. Prohibited Species and Zone
TRAWL FISHERIES | Halibut mortality (mt) BSAI | Herring (mt) BSAI | Red King Crab (animals) Zone 1¹ | C. opilio (animals) COBLZ² | C. bairdi (animals): Zone 1¹ | C. bairdi (animals): Zone 2¹
Yellowfin sole | 222 | 35 | 4,166 | 694,245 | 85,211 | 447,115
Rocksole/oth.flat/flat sole³ | 195 | 5 | 14,946 | 242,283 | 91,330 | 149,039
RKCSS³ |  |  | 5,231 |  |  |
Turbot/arrowtooth/sablefish⁴ |  | 2 |  | 10,060 |  |
Rockfish |  |  |  |  |  |
July 1 - December 31 | 17 | 2 |  | 10,059 |  | 2,747
Pacific cod | 359 | 5 | 2,916 | 31,184 | 45,778 | 81,044
Midwater trawl pollock |  | 296 |  |  |  |
Pollock/Atka/other⁵ | 58 | 37 | 404 | 18,107 | 4,306 | 6,868
TOTAL TRAWL PSC | 851 | 382 | 22,432 | 1,005,938 | 226,625 | 686,813
NON-TRAWL FISHERIES
Pacific cod - Total | 193 |  |  |  |  |
Other non-trawl - Total | 14 |  |  |  |  |
Groundfish pot & jig | exempt |  |  |  |  |
Sablefish hook & line | exempt |  |  |  |  |
TOTAL NON-TRAWL PSC | 207 |  |  |  |  |
PSQ RESERVE⁶ | 86 |  | 1,818 | 81,562 | 18,375 | 55,687
GRAND TOTAL | 1,144 | 382 | 24,250 | 1,087,500 | 245,000 | 742,500
¹ Refer to § 679.2 for definitions of areas.
²C. opilio Bycatch Limitation Zone. Boundaries are defined at § 679.21 (e)(7)(iv)(B).
³ The Council at its October 2002 meeting proposed limiting red king crab for trawl fisheries within the Red King Crab Savings Subarea (RKCSS) to 35 percent of the total allocation to the rock sole, flathead sole, and other flatfish fishery category (§ 679.21(e)(3)(ii)(B)).
⁴ Greenland turbot, arrowtooth flounder, and sablefish fishery category.
⁵ Pollock other than pelagic trawl pollock, Atka mackerel, and “other species” fishery category.
⁶ With the exception of herring, 7.5 percent of each PSC limit is allocated to the multi-species CDQ program as PSQ reserve. The PSQ reserve is not allocated by fishery, gear or season.

Directed Fishing Closures

In accordance with § 679.20(d)(1)(i), if the Regional Administrator determines that any allocation or apportionment of a target species or “other species” category has been or will be reached, the Regional Administrator may establish a directed fishing allowance for that species or species group. If the Regional Administrator establishes a directed fishing allowance, and that allowance is or will be reached before the end of the fishing year, NMFS will prohibit directed fishing for that species or species group in the specified subarea or district (§ 697.20(d)(1)(iii)). Similarly, under § 679.21(e), if the Regional Administrator determines that a fishery category's bycatch allowance of halibut, red king crab, or C. bairdi Tanner crab for a specified area has been reached, the Regional Administrator will prohibit directed fishing for each species in that category in the specified area.

The Regional Administrator has determined that the following remaining allocation amounts will be necessary as incidental catch to support other anticipated groundfish fisheries for the 2003 fishing year:

Bogoslof District: |
Pollock | 90 mt
Aleutian Islands subarea: |
Pollock | 900 mt
Northern rockfish | 996 mt
Shortraker/rougheye rockfish | 194 mt
“Other rockfish” | 144 mt
Bering Sea subarea: |
Pacific ocean perch | 557 mt
“Other rockfish” | 77 mt
Northern rockfish | 3 mt
Shortraker/rougheye rockfish | 25 mt

Consequently, in accordance with § 679.20(d)(1)(i), the Regional Administrator establishes the directed fishing allowances for the above species or species groups as zero.

Therefore, in accordance with § 679.20(d)(1)(iii), NMFS is immediately prohibiting directed fishing for these species in the specified areas and these closures will remain in effect from 0001 hrs, A.l.t., January 1, 2003, until superseded by the Final 2003 Harvest Specifications for BSAI Groundfish.

In addition, the BSAI Zone 1 annual red king crab allowance specified for the trawl rockfish fishery (§ 679.21(e)(3)(iv)(D)) is 0 mt and the BSAI first seasonal halibut bycatch allowance specified for the trawl rockfish fishery is 0 mt. The BSAI annual halibut bycatch allowance specified for the trawl Greenland turbot/arrowtooth flounder/sablefish fishery categories is 0 mt (§ 679.21(e)(3)(iv)(C)). Therefore, in accordance with § 679.21(e)(7)(ii) and (v), NMFS is prohibiting directed fishing for rockfish by vessels using trawl gear in Zone 1 of the BSAI and directed fishing for Greenland turbot/arrowtooth flounder/sablefish by vessels using trawl gear in the BSAI from 0001 hrs., A.l.t., January 1, 2003, until superseded by the final 2003 harvest specifications for BSAI groundfish. NMFS is also prohibiting directed fishing for rockfish outside Zone 1 in the BSAI until 1200 hrs, A.l.t, July 1, 2003.

While these closures are in effect, the maximum retainable amounts at § 679.20(e) and (f) apply at any time during a fishing trip. These closures to directed fishing are in addition to closures and prohibitions found in regulations at 50 CFR part 679. Refer to § 679.2 for definitions of areas. In the BSAI, “Other rockfish” includes Sebastes and Sebastolobus species except for Pacific ocean perch, shortraker, rougheye, and northern rockfish.

Bering Sea Subarea Inshore Pollock Allocations

Regulations that will be effective with the final rule to implement major provisions of the AFA at § 679.4 set forth procedures for AFA inshore catcher vessel pollock cooperatives to apply for and receive cooperative fishing permits and inshore pollock allocations. Table 3 lists the interim pollock allocations to the seven inshore catcher vessel pollock cooperatives based on 2002 coop allocations and NMFS' assumption, at this date, that the cooperatives membership will remain unchanged in 2003. Allocations for cooperatives and vessels not participating in cooperatives are not made for the AI subarea because the AI subarea has been closed to directed fishing for pollock. These allocations may be revised in the final 2003 BSAI groundfish harvest specifications pending adjustments to cooperatives membership for the 2003 fishing year.

TABLE 3. INTERIM 2003 BERING SEA SUBAREA INSHORE COOPERATIVE ALLOCATIONS.
Cooperative name and member vessels | Sum of member vessel's official catch histories¹ | Percentage of inshore sector allocation | Interim cooperative allocation
Akutan Catcher Vessel Association | 245,527 | 28.085% | 72,068
ALDEBARAN, ARCTIC EXPLORER, ARCTURUS, BLUE FOX, CAPE KIWANDA, COLUMBIA, DOMINATOR, EXODUS, FLYING CLOUD, GOLDEN DAWN, GOLDEN PISCES, HAZEL LORRAINE, INTREPID EXPLORER, LESLIE LEE, LISA MELINDA, MAJESTY, MARCY J, MARGARET LYN, NORDIC EXPLORER, NORTHERN PATRIOT, NORTHWEST EXPLORER, PACIFIC RAM, PACIFIC VIKING, PEGASUS, PEGGY JO, PERSEVERANCE, PREDATOR, RAVEN, ROYAL AMERICAN, SEEKER, SOVEREIGNTY, TRAVELER, VIKING EXPLORER |  |  |
Arctic Enterprise Association | 36,807 | 4.210% | 10,804
BRISTOL EXPLORER, OCEAN EXPLORER, PACIFIC EXPLORER |  |  |
Northern Victor Fleet Cooperative | 73,656 | 8.425% | 21,620
ANITA J, COLLIER BROTHERS, COMMODORE, EXCALIBUR II, GOLDRUSH, HALF MOON BAY, MISS BERDIE, NORDIC FURY, PACIFIC FURY, POSEIDON, ROYAL ATLANTIC, SUNSET BAY, STORM PETREL |  |  |
Peter Pan Fleet Cooperative | 18,693 | 2.138% | 5,487
AMBER DAWN, AMERICAN BEAUTY, ELIZABETH F, MORNING STAR, OCEAN LEADER, OCEANIC, PROVIDIAN, TOPAZ, WALTER N |  |  |
Unalaska Cooperative | 106,737 | 12.209% | 31,330
ALASKA ROSE, BERING ROSE, DESTINATION, GREAT PACIFIC, MESSIAH, MORNING STAR, MS AMY, PROGRESS, SEA WOLF, VANGUARD, WESTERN DAWN |  |  |
UniSea Fleet Cooperative | 201,566 | 23.056% | 59,164
ALSEA, AMERICAN EAGLE, ARGOSY, AURIGA, AURORA, DEFENDER, GUN-MAR, NORDIC STAR, PACIFIC MONARCH, SEADAWN, STARFISH, STARLITE |  |  |
Westward Fleet Cooperative | 189,544 | 21.681% | 55,636
A.J., ALASKAN COMMAND, ALYESKA, ARCTIC WIND, CAITLIN ANN, CHELSEA K, DONA MARTITA, FIERCE ALLEGIANCE, HICKORY WIND, OCEAN HOPE 3, PACIFIC KNIGHT, PACIFIC PRINCE, STARWARD, VIKING, WESTWARD I |  |  |
Open access AFA vessels | 1,707 | 0.195% | 501
Total inshore allocation | 874,238 | 100% | 256,608
¹According to regulations that will be effective with the final rule to implement major provisions of the AFA at 679.62(e)(1) the individual catch history for each vessel is equal to the vessel's best 2 of 3 years inshore pollock landings from 1995 through 1997 and includes landings to catcher/processors for vessels that made 500 or more mt of landings to catcher/processors from 1995 through 1997.

According to regulations that will be effective with the final rule to implement major provisions of the AFA at § 679.20(a)(5)(i)(A), NMFS must subdivide the inshore allocation into allocations for cooperatives and vessels not fishing in a cooperative (i.e., the open access sector). In addition, under § 679.22(a)(11)(vii), NMFS must establish harvest limits inside the SCA and provide a set-aside so that catcher vessels less than or equal to 99 ft (30.2 m) LOA have the opportunity to operate entirely within the SCA during the A season. Accordingly, Table 4 lists the interim apportionment of the Bering Sea subarea inshore pollock allocation into allocations for vessels fishing in a cooperative and for vessels not participating in a cooperative and establishes a cooperative-sector SCA set-aside for AFA catcher vessels less than or equal to 99 ft (30.2 m) LOA. The SCA set-aside for sector catcher vessels less than or equal to 99 ft (30.2 m) LOA that are not participating in a cooperative will be established inseason based on actual participation levels and is not included in Table 4. These allocations may be revised in the final 2003 BSAI groundfish harvest specifications pending adjustments to cooperatives membership for the 2003 fishing year.

TABLE 4. INTERIM 2003 BERING SEA SUBAREA POLLOCK ALLOCATIONS TO THE COOPERATIVE AND OPEN ACCESS SECTORS OF THE INSHORE POLLOCK FISHERY. AMOUNTS ARE EXPRESSED IN MT.
| A/B season TAC | A season inside SCA¹
Cooperative sector |  |
Vessels > 99 ft | n/a | 154,025
Vessels ≤ 99 ft | n/a | 25,250
Total | 256,107 | 179,275
Open access sector | 501 | 351²
Total inshore | 256,608 | 179,626
¹Steller sea lion conservation area established at § 679.22(a)(11)(vii).
² SCA limitations for vessels less than or equal to 99 ft LOA that are not participating in a cooperative will be established on an inseason basis in accordance with § 679.22(a)(11)(vii)(C)(2) which specifies that “the Regional Administrator will prohibit directed fishing for pollock by vessels catching pollock for processing by the inshore component greater than 99 ft (30.2 m) LOA before reaching the inshore SCA harvest limit during the A season to accommodate fishing by vessels less than or equal to 99 ft (30.2 m) inside the SCA for the duration of the inshore seasonal opening.”

Unrestricted AFA Catcher/Processor Sideboards

In 2003, the formula for setting AFA catcher/processor sideboard limits for non-pollock groundfish will change from calculations made for sideboard limits in 2000 through 2002. The basis for these sideboard limits is described in detail in the Proposed Rule for Amendments 61/61/13/8 to Implement Major Provisions of the AFA (66 FR 65028, December 17, 2001). The interim 2003 catcher/processor sideboard limits are set out in Table 5 below.

All non-pollock groundfish that is harvested by unrestricted AFA catcher/processors, whether as targeted catch or incidental catch, will be deducted from the interim sideboard limits in Table 5. However, non-pollock groundfish that is delivered to listed catcher/processors by catcher vessels will not be deducted from the interim 2003 sideboard limits for the listed catcher/processors.

BILLING CODE 3510-22-S

BILLING CODE 3510-22-C

Regulations that will be effective with the final rule to implement major provisions of the AFA at § 679.63(a)(2) establish a formula for PSC sideboard limits for unrestricted AFA catcher/processors. These amounts are equivalent to the percentage of prohibited species bycatch limits harvested in the non-pollock groundfish fisheries by the AFA catcher/processors listed in subsection 208(e) and section 209 of the AFA from 1995 through 1997. Prohibited species amounts harvested by these catcher/processors in BSAI non-pollock groundfish fisheries from 1995 through 1997 are shown in Table 6. These data were used to calculate the relative amount of PSC limits harvested by pollock catcher/processors, which were then used to determine the PSC sideboard limits for unrestricted AFA catcher/processors in the 2003 non-pollock groundfish fisheries.

PSC that is caught by unrestricted AFA catcher/processors participating in any non-pollock groundfish fishery listed in Table 6 will accrue against the interim 2003 PSC sideboard limits for the listed catcher/processors. Regulations that will be effective with the final rule to implement major provisions of the AFA at § 679.21(e)(3)(v), provide NMFS authority to close directed fishing for non-pollock groundfish for unrestricted AFA catcher/processors once an interim 2003 PSC limit listed in Table 6 is reached.

Crab or halibut PSC that is caught by unrestricted AFA catcher/processors while fishing for pollock will accrue against the bycatch allowances annually specified for either the midwater pollock or the pollock/Atka mackerel/other species fishery categories under § 679.21(e)(3)(iv).

TABLE 6. INTERIM 2003 UNRESTRICTED BSAI AFA CATCHER/PROCESSOR PROHIBITED SPECIES SIDEBOARD LIMITS.¹
PSC species | 1995 - 1997: PSC catch | 1995 - 1997: Total PSC | 1995 - 1997: Ratio | Interim 2003 PSC available to trawl CPs | Interim 2003 C/P Sideboard limit
Halibut mortality | 955 | 11,325 | 0.084 | 851 | 71
Red king crab | 3,098 | 473,750 | 0.007 | 22,432 | 157
C. opilio | 2,323,731 | 15,139,178 | 0.153 | 1,005,938 | 153,908
C. bairdi |  |  |  |  |
Zone 1 | 385,978 | 2,750,000 | 0.140 | 226,625 | 31,728
Zone 2 | 406,860 | 8,100.000 | 0.050 | 686,813 | 34,341
¹ Halibut amounts are in metric tons of halibut mortality. Crab amounts are in numbers of animals.

AFA Catcher Vessel Sideboards

Regulations that will be effective with the final rule to implement major provisions of the AFA at § 679.63(b) establish a formula for setting AFA catcher vessel groundfish and PSC sideboard limits for the BSAI. The basis for these sideboard limits was recommended by the Council and is described in detail in the Proposed Rule for Amendments 61/61/13/8 to Implement Major Provisions of the AFA (66 FR 65028, December 17, 2001). For 2002, NMFS revised the 2001 ratio of 1995 to 1997 AFA catcher vessel retained catch to the 1995 to 1997 TAC. These revisions are based on Alaska Department of Fish and Game editing of fish tickets and NMFS editing of observer catch data and weekly production reports. The interim 2003 AFA catcher vessel sideboard limits are shown in Tables 7 and 8.

All harvests of groundfish sideboard species made by non-exempt AFA catcher vessels, whether as targeted catch or incidental catch, will be deducted from the interim sideboard limits listed in Table 7.

BILLING CODE 3510-22-S

Regulations that will be effective with the final rule to implement major provisions of the AFA at § 679.63(b) establish a formula for PSC sideboard limits for AFA catcher vessels. The AFA catcher vessel PSC limit for halibut in the BSAI and GOA, and each crab species in the BSAI for which a trawl bycatch limit has been established, will be a portion of the PSC limit equal to the ratio of aggregate retained groundfish catch by AFA catcher vessels in each PSC target category from 1995 through 1997 relative to the retained catch of all vessels in that fishery from 1995 through 1997. These interim PSC limits for AFA catcher vessels are listed in Table 8.

Halibut and crab PSC that is caught by AFA catcher vessels participating in any non-pollock groundfish fishery listed in Table 8 will accrue against the interim 2003 PSC limits for AFA catcher vessels. Regulations that will be effective with the final rule to implement major provisions of the AFA at §§ 679.21(d)(8) and (e)(3)(v) provide authority to close directed fishing for non-pollock groundfish for AFA catcher vessels once an interim 2003 PSC limit listed in Table 8 for the BSAI is reached. PSC that is caught by AFA catcher vessels while fishing for pollock in the BSAI will accrue against either the midwater pollock or the pollock/Atka mackerel/other species fishery categories.

BILLING CODE 3510-22-C

Sideboard Directed Fishing Closures and AFA Catcher/Processor Sideboard Closures

The Regional Administrator has determined that many of the interim AFA catcher/processor sideboard limits listed in Table 5 are necessary as incidental catch to support other anticipated groundfish fisheries for the 2003 fishing year. In accordance with § 679.20(d)(1)(iv), the Regional Administrator establishes the limits listed in Table 5 as directed fishing allowances. The Regional Administrator finds that many of these directed fishing allowances will be reached before the end of the year. Therefore, in accordance with § 679.20(d)(1)(iii), NMFS is prohibiting directed fishing by unrestricted AFA catcher/processors for the species in the specified areas set out in Table 9.

TABLE 9. INTERIM AFA UNRESTRICTED CATCHER/PROCESSOR SIDEBOARD DIRECTED FISHING CLOSURES.1 THESE CLOSURES TAKE EFFECT 1200 HRS, A.L.T., JANUARY 20, 2003 AND REMAIN IN EFFECT UNTIL SUPERSEDED BY THE FINAL 2003 HARVEST SPECIFICATIONS FOR GROUNDFISH.
Species | Area | Gear types
Sablefish trawl | BSAI | all
Greenland turbot | BSAI | all
Arrowtooth flounder | BSAI | all
Pacific ocean perch | BSAI | all
Northern rockfish | BSAI | all
Shortraker/Rougheye rockfish | BSAI | all
Other rockfish | BSAI | all
Squid | BSAI | all
Other species | BSAI | all
¹Maximum retainable percentages may be found in Table 11 to 50 CFR part 679.

AFA Catcher Vessel Sideboard Closures

The Regional Administrator has determined that many of the interim AFA catcher vessel sideboard limits listed in Table 7 are necessary as incidental catch to support other anticipated groundfish fisheries for the 2003 fishing year. In accordance with § 679.20(d)(1)(iv), the Regional Administrator establishes the limits listed in Table 7 as directed fishing allowances. The Regional Administrator finds that many of these directed fishing allowances will be reached before the end of the year. Therefore, in accordance with § 679.20(d)(1)(iii), NMFS is prohibiting directed fishing by non-exempt AFA catcher vessels for the species in the specified areas set out in Table 10.

TABLE 10. INTERIM AFA CATCHER VESSEL SIDEBOARD DIRECTED FISHING CLOSURES.¹ THESE CLOSURES TAKE EFFECT 1200 HRS, A.L.T., JANUARY 20, 2003 AND REMAIN IN EFFECT UNTIL SUPERSEDED BY THE FINAL 2003 HARVEST SPECIFICATIONS FOR GROUNDFISH.
Species | Area | Gear types
Pacific cod | BSAI | all
Sablefish | BSAI | all
Atka mackerel | BSAI | all
Greenland Turbot | BSAI | all
Arrowtooth flounder | BSAI | all
Pacific ocean perch | BSAI | all
Northern rockfish | BSAI | all
Shortraker/Rougheye rockfish | BSAI | all
Other rockfish | BSAI | all
Squid | BSAI | all
Other species | BSAI | all
¹Maximum retainable percentages may be found in Table 11 to 50 CFR part 679.

Classification

This action is necessary to establish interim harvest limits for the BSAI groundfish fisheries for the 2003 fishing year. The groundfish fisheries in the BSAI are governed by Federal regulations at 50 CFR 679 that require NMFS, after consultation with the Council, to publish and solicit public comments on proposed annual TACs and PSC allowances.

This action is authorized under 50 CFR 679.20 and is exempt from review under Executive Order 12866.

The Assistant Administrator for Fisheries, NOAA, finds that the need to establish interim TACs and related management measures for groundfish fisheries in the BSAI, effective January 1, 2003, makes it impracticable and contrary to the public interest to provide prior notice and opportunity for public comment on this action. Because this action is a final action by NMFS, analyses and consultations required under the Magnuson-Stevens Act, the National Environmental Policy Act (NEPA) and the Endangered Species Act (ESA) must be completed and considered by the agency prior to promulgation of the interim harvest specifications. However, the information on which the EA and the section 7 consultations are based was not available until early December 2002. The Council's BSAI and GOA groundfish Plan Teams met in mid-November 2002 to develop stock assessment reports and to provide recommendations on acceptable biological catch (ABC) levels for the upcoming fishing year. The stock assessment reports and ABC recommendations developed by the Plan Teams in mid-November incorporate scientific and fishery data from the current fishing year and enable NMFS to base this rulemaking on the best available science, as required by national standard 2 of the Magnuson-Stevens Act. The Plan Teams prepared the final reports during the last two weeks of November. The EA and Section 7 consultations were then based on these final reports.

Regulations at 50 CFR 679.20(c)(2) require NMFS to specify interim harvest specifications to be effective January 1 and remain in effect until superseded by the final specifications. Without interim specifications in effect on January 1, the groundfish fisheries would not be able to open, resulting in unnecessary closures and disruption within the fishing industry. Because NMFS cannot publish interim specifications until all analyses and consultations are complete, and those analyses and consultations could not be completed until early December 2002, there is not sufficient time to provide the public with an opportunity to comment on the interim specifications before they must be in place on January 1. Additionally, the proposed 2003 BSAI groundfish harvest specifications, on which the interim specifications are based, provide the opportunity for public comment. Given these reasons, good cause exists under 5 U.S.C. 553(b)(B) to waive prior notice and opportunity for public comment on this action.

Likewise, the Assistant Administrator for Fisheries, NOAA, finds that the need to establish interim TACs and other management measures in the BSAI effective on January 1, 2003, provides good cause to waive the 30-day delay in effective date of the interim specifications. In order for the BSAI groundfish fishing season to begin on January 1, 50 CFR 679.20(c)(2) requires NMFS to establish interim harvest specifications to be effective on January 1 and to remain in effect until superseded by the filing of final harvest specifications with the Office of the Federal Register. NMFS interprets regulations at § 679.20(c)(2) as requiring the filing of interim specifications with the Office of the Federal Register before any harvest of groundfish is authorized. Without interim specifications in effect on January 1, the groundfish fisheries would not be able to open on that date, resulting in unnecessary closures and disruption within the fishing industry. Based on these reasons, the need to publish these measures in a timely manner constitutes good cause under authority contained in 5 U.S.C. 553(d)(3) to waive the 30-day delay in effective date.

Because these interim specifications are not required to be issued with prior notice and opportunity for public comment, the analytical requirements of the Regulatory Flexibility Act do not apply. Consequently, no regulatory flexibility analysis has been prepared for this action.

Authority: 16 U.S.C. 773 et seq., 1801 et seq., and 3631 et seq.

Dated: December 16, 2002.
Rebecca Lent,
Deputy Assistant Administrator for Regulatory Programs, National Marine Fisheries Service.

[FR Doc. 02-32433 Filed 12-24-02; 8:45 am]

BILLING CODE 3510-22-S